ENVIRONMENTAL PROTECTION AGENCY

[EPA-HQ-OAR-2020-0671; FRL-9726-01-OMS]

Information Collection Request Submitted to OMB for Review and Approval; Comment Request; NSPS for New Residential Hydronic Heaters and Forced-Air Furnaces (Renewal)

AGENCY: Environmental Protection Agency (EPA).

ACTION: Notice.

SUMMARY: The Environmental Protection Agency (EPA) has submitted an information collection request (ICR), NSPS for New Residential Hydronic Heaters and Forced-Air Furnaces (EPA ICR Number 2442.04, OMB Control Number 2060-0693, to the Office of Management and Budget (OMB) for review and approval in accordance with the Paperwork Reduction Act. This is a proposed extension of the ICR, which is currently approved through May 31, 2022. Public comments were previously requested, via the Federal Register, on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 6, 2022.

ADDRESSES: Submit your comments, referencing Docket ID Number EPA-HQ-OAR-2020-0671, to EPA online using https://www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be confidential business information or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: Manufacturers of wood-fired residential hydronic heaters, forced-air furnaces, or other central heaters, testing laboratories, and third-party certifiers are required to comply with reporting and recordkeeping requirements for the General Provisions (40 CFR part 60, subpart A), as well as for the applicable specific standards in 40 CFR part 60 Subpart QQQQ. This includes submitting initial notifications, performance tests and periodic reports and results, and maintaining records. These reports are used by EPA to determine compliance with these same standards.

Form Numbers: None.

Respondents/affected entities: Manufacturers of wood-fired residential hydronic heaters, forced-air furnaces, or other central heaters, testing laboratories, third-party certifiers.

Respondent's obligation to respond: Mandatory (40 CFR part 60, subpart QQQQ).

Estimated number of respondents: 24 (total).

Frequency of response: Annually, biennially, every five years.

Total estimated burden: 2,390 hours (per year). Burden is defined at 5 CFR 1320.3(b).

Total estimated cost: $950,000 (per year), which includes $484,000 in annualized capital/startup costs. There are no operation & maintenance (O&M) costs.

Changes in the Estimates: There is a significant decrease in burden from the most-recently approved ICR as currently identified in the OMB Inventory of Approved Burdens. This is due to several considerations. The size of the industry (number of respondents) has decreased by half since the previously-approved ICR (2442.03), resulting in a significant decrease in both labor burden and capital/startup costs for periodic re-testing and auditing of model lines. The decrease in the number of respondents is based on certification data collected by the EPA. This ICR includes a review of the regulations as amended on April 2, 2020 at 85 FR 18448, but these amendments did not increase burden. The regulations are anticipated to change over the next three years, but these changes are not anticipated to either increase or decrease burden. The growth rate for this industry is anticipated to be zero over the next three years as manufacturers have already certified to the 2020 standards, resulting in no expenses for testing new model lines.

Courtney Kerwin,
Director, Regulatory Support Division.

[FR Doc. 2022-07266 Filed 4-5-22; 8:45 am]

BILLING CODE 6560-50-P